DEPARTMENT OF ENERGY

Federal Energy Regulatory Commission

[Docket No. ER00-1975-000]

American Energy Savings, Inc.; Notice of Filing

March 31, 2000.

Take notice that on March 15, 2000, American Energy Savings, Inc. (AES) filed a petition for acceptance of AES Rate Schedule FERC No. 1; the granting of certain blanket approvals, including the authority to sell electricity at market-based rates; and the waiver of certain Commission Regulations.

AES intends to engage in wholesale electric power and energy purchases and sales as a marketer. AES is not in the business of generating or transmitting electric power. AES is a wholly-owned subsidiary of American Energy Savings, Inc.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before April 10, 2000. Protests will be considered by the Commission to determine the appropriate action to be taken, but will not serve to make protestants parties to the proceedings. Any person wishing to become a party must file a motion to intervene. Copies of this filing are on file with the Commission and are available for public inspection. This filing may be viewed on the Internet at http://www.ferc.fed.us/online/rims.htm (call 202 208-2222 for assistance).

Linwood A. Watson, Jr.,
Acting Secretary.

[FR Doc. 00-8463 Filed 4-5-00; 8:45 am]

BILLING CODE 6717-01-M